DEPARTMENT OF TRANSPORTATION

National Highway Traffic Safety Administration

[Docket No. NHTSA 2015-0061]

Request for Approval of a New Information Collection

ACTION: Notice and request for comments .

SUMMARY: In compliance with the Paperwork Reduction Act of 1995 (44 U.S.C. 3501 et seq.), this notice announces that the Information Collection Request (ICR) abstracted below is being forwarded to the Office of Management and Budget (OMB) for review and comments. Federal Register Notice with a 60-day comment period soliciting comments on the following information collection was published on October 29, 2016.

DATES: Written comments should be submitted on or before July 6, 2016.

ADDRESSES: Send comments to the Office of Information and Regulatory Affairs, Office of Management and Budget, 725 17th Street NW., Washington, DC 20503, Attention: NHTSA Desk Officer.

FOR FURTHER INFORMATION CONTACT: For additional information or access to background documents, contact Ritchie Huang, Crash Avoidance and Electronic Controls Division, NHTSA, 1200 New Jersey Ave. SE., Washington, DC 20590; Telephone (202) 366-5586; Facsimile: (202) 366-8546; email address: ritchie.huang@dot.gov.

SUPPLEMENTARY INFORMATION: Before a Federal agency can collect certain information from the public, it must receive approval from the Office of Management and Budget (OMB). In compliance with these requirements, this notice announces that the following information collection request has been forwarded to OMB. In the October 29, 2015 Federal Register ¹, NHTSA published a 60-day notice requesting public comment on the proposed collection of information. We received zero comments.

¹ 80 FR 24314 (April 30, 2015).

OMB Control Number: To be issued at time of approval.

Title: Heavy Vehicle Collision Warning Interfaces.

Form Numbers: None.

Type of Review: New information collection.

Abstract: Crash warning systems (CWSs) for commercial motor vehicles have been available for more than 20 years. CWSs can include features such as forward collision and lane departure warnings and use a variety of sensor technologies (e.g., radar) to determine the crash risk of a collision. CWSs are designed to warn the driver to take action to avoid or mitigate a potential crash.

CWSs are available as both options from OEMs and as aftermarket/retrofit devices. While there are certain similarities between offerings within a particular CWS product class (e.g., forward collision warning (FCW)), there are also differences in how suppliers present collision warnings, including the design of visual displays and auditory alerts. Typically, suppliers will use a combination of visual and audio modalities to convey a potential crash situation to the driver. However, their implementations vary across factors such as the visual interface, auditory alert, and the salience of alerts. While CWS implementations change and evolve, it is likely that certain warning interfaces are more effective than others during crash-imminent situations. This research seeks to examine the impact of CWSs as they pertain to commercial motor vehicle safety. The primary goal of this effort is to evaluate CWSs and assess the effectiveness of these driver-vehicle interfaces for heavy trucks and motorcoaches.

Respondents: Virginia, West Virginia, North Carolina, and Tennessee drivers with a valid Class A commercial driver license.

Estimated Number of Respondents: It is estimated that up to 60 Class A CDL drivers will participate; however, it is estimated that up to 100 Class A CDL drivers will complete the eligibility questionnaire in order to obtain 60 Class A CDL drivers that meet the criteria to participate.

Estimated Time per Response: Completion of the eligibility questionnaire is expected to take 10 minutes while the demographics questionnaire is expected to take two minutes. The mid-study questionnaires 10 minutes total and the post study questionnaire will take 15 minutes.

Total Estimated Burden: 37 minutes per respondent (44 hours total).

Frequency of Collection: Onetime for the eligibility, post study, and demographic questionnaire; three times for the mid study questionnaire.

NHTSA estimates the burden of this collection of information as follows:

Table 1—Estimated Burden Hours
Instrument | Number of respondents ¹ | Frequency of responses | Number of questions | Estimated individual burden (minutes) | Total estimated burden hours | Total annualize cost to respondents ²
Eligibility questionnaire | 100 | 1 | 26 | 10 | 17 | $ 414.80
Demographic questionnaire | 60 | 1 | 7 | 2 | 2 | 48.80
Mid-study questionnaires | 60 | 3 | 9 | 10 | 10 | 244.00
Post study questionnaire | 60 | 1 | 12 | 15 | 15 | 366.00
Total |  |  |  |  | 44 | 1,073.60
¹ The number of respondents in this table includes drop-out rates.
² Estimated based on the mean hourly rate for Virginia (all occupations) is $24.40 as reported in the May 2014 Occupational Employment and Wage Estimates, Bureau of Labor Statistics. http://www.bls.gov/oes/current/oes_va.htm.

Authority: The Paperwork Reduction Act of 1995; 44 U.S.C. Chapter 35, as amended; and 49 CFR 1.95.

Nathaniel Beuse,
Associate Administrator, Office of Vehicle Safety Research.

[FR Doc. 2016-13186 Filed 6-3-16; 8:45 am]

BILLING CODE 4910-59-P